DEPARTMENT OF HEALTH AND HUMAN SERVICES

Centers for Disease Control and Prevention

[60Day-16-16CP; Docket No. CDC-2015-0100]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection request entitled “Data Collection for Community-based Tick Control for the Prevention of Rocky Mountain Spotted Fever in Hermosillo, Mexico.” This project will be carried out in collaboration with the Rickettsial Zoonoses Branch, National Center for Emerging and Zoonotic Infectious Diseases (NCEZID), Centers for Disease Control and Prevention (CDC) and the University of Sonora School of Medicine (UNSOM) to assess the efficacy and impact of a community based tick prevention project.

DATES: Written comments must be received on or before January 11, 2016.

ADDRESSES: You may submit comments, identified by Docket No. CDC-2015-0100 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Community-based Tick Control for the Prevention of Rocky Mountain Spotted Fever in Hermosillo, Mexico”—New—National Center for Emerging and Zoonotic Diseases (NCEZID), Centers for Disease Control and Prevention (CDC).

Background and Brief Description

The Centers for Disease Control and Prevention (CDC) Rickettsial Zoonoses Branch (RZB) requests approval of a public health intervention assessment tool to demonstrate the efficacy and impact of public health research related to the prevention of Rocky Mountain spotted fever [RMSF] in Hermosillo, Mexico. These activities include monitoring cases, conducting tick control interventions, and performing participant surveys to assess the knowledge, attitudes, and practices relating to tick control and prevention.

The information collection for which approval is sought is in accordance with RZB's mission to reduce morbidity and mortality of rickettsial diseases and decrease the burden of disease through control and prevention methods. Authorizing Legislation comes from section 301 of the Public Health Service Act (42 U.S.C. 241).

Approval for a three-year data collection will allow RZB to collect information related to risk of RMSF to improve and inform prevention activities. Successful execution of RZB's public health mission requires use data collection activities in collaboration with multiple local and international partners. RZB proposes the following use of pre/posttests to evaluate the changes in knowledge, attitudes and practices relating to tick control as well as perceived impact of the intervention project. The project will also collect basic household information to document their consent to participate. Data collection will be conducted in-person. Data will be recorded on paper forms and then entered into an electronic database.

RZB estimates involvement of 1,300 respondents and a maximum of 600 hours of burden for research activities each year. The collected information will not impose a cost burden on the respondents beyond that associated with their time to provide the required data.

Estimated Annualized Burden Hours
Type of respondents | Form name | Number of respondents | Number of responses per respondent | Average burden per response (in hours) | Total burden (in hours)
General Public | Registration | 500 | 1 | 20/60 | 167
General Public | KAP survey (pre and post intervention) | 800 | 2 | 20/60 | 533
Total |  |  |  |  | 700

Leroy A. Richardson,
Chief, Information Collection Review Office, Office of Scientific Integrity, Office of the Associate Director for Science, Office of the Director, Centers for Disease Control and Prevention.

[FR Doc. 2015-28473 Filed 11-9-15; 8:45 am]

BILLING CODE 4163-18-P